DEPARTMENT OF JUSTICE

Notice of Lodging of Proposed Fifth Amendment to Consent Decree Under the Comprehensive Environmental Response, Compensation and Liability Act

On January 19, 2022, the Department of Justice lodged a proposed Fifth Amendment to Consent Decree (“Amendment”) with the United States District Court for the Western District of Washington in the lawsuit entitled United States v. Point Ruston, LLC, Civil Action No. C91-5528 B.

The Amendment constitutes a material modification of a 1997 Consent Decree (“Decree”) concerning the remediation of a portion of the Commencement Bay, Near Shore/Tide Flats Superfund Site in Tacoma and Ruston, Washington (“Site”) by Point Ruston, LLC (“Point Ruston”). The Amendment extends various remedial action deadlines for several parcels and accelerates the cleanup date for several other parcels. If Point Ruston meets certain criteria—timely payment of oversight costs due under the Decree and a demonstration of financing sufficient to fund the development and capping of a discrete parcel—it is eligible for a further extension. As a pre-requisite to the Amendment, Point Ruston was required to install groundwater wells and conduct a sampling event, pay $1,850,448.74 in stipulated penalties with interest, and pay taxes on five parcels at the Site that were in property tax foreclosure.

The publication of this notice opens a period for public comment on the Amendment. Comments should be addressed to the Assistant Attorney General, Environment and Natural Resources Division, and should refer to United States v. Point Ruston, LLC, D.J. Ref. No. 90-11-2-698. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amendment may be examined and downloaded at this Justice Department website: https://www.justice.gov/enrd/consent-decrees. We will provide a paper copy of the Amendment upon written request and payment of reproduction costs. Please mail your request and payment to: Consent Decree Library, U.S. DOJ—ENRD, P.O. Box 7611, Washington, DC 20044-7611.

Please enclose a check or money order for $2.75 (25 cents per page reproduction cost) payable to the United States Treasury.

Susan M. Akers,
Assistant Section Chief, Environmental Enforcement Section, Environment and Natural Resources Division.

[FR Doc. 2022-01357 Filed 1-24-22; 8:45 am]

BILLING CODE 4410-15-P